ENVIRONMENTAL PROTECTION AGENCY

[ER-FRL-9050-8]

Environmental Impact Statements; Notice of Availability

Responsible Agency: Office of Federal Activities, General Information 202-564-5632 or https://www.epa.gov/nepa.

Weekly receipt of Environmental Impact Statements (EIS)

Filed May 4, 2020, 10 a.m. EST Through May 11, 2020, 10 a.m. EST

Pursuant to 40 CFR 1506.9.

Section 309(a) of the Clean Air Act requires that EPA make public its comments on EISs issued by other Federal agencies. EPA's comment letters on EISs are available at: https://cdxnodengn.epa.gov/cdx-enepa-public/action/eis/search.

EIS No. 20200102, Final, USFWS, CA, Final Environmental Impact Statement/Supplemental Environmental Impact Report for the Proposed Upper Santa Ana River Wash Habitat Conservation Plan, Review Period Ends: 06/15/2020, Contact: Kerin Cleary-Rose 760-322-2070.

EIS No. 20200103, Draft Supplement, FTA, TX, Dallas CBD Second Light Rail Alignment (D2 Subway), Comment Period Ends: 06/29/2020, Contact: Terence Plaskon 817-978-0573.

EIS No. 20200104, Final, NRCS, RI, Pocasset River Flood Damage Reduction Project, Review Period Ends: 06/15/2020, Contact: Ayana Brown 401-822-8812.

EIS No. 20200105, Final, USFS, WY, 2020 Thunder Basin National Grassland Plan Amendment, Review Period Ends: 07/14/2020, Contact: Monique Nelson 307-275-0956.

Amended Notice

EIS No. 20200060, Draft, FHWA, VA, Route 220 Martinsville Southern Connector, Comment Period Ends: 06/19/2020, Contact: Mack A Frost 804-775-3352. Revision to FR Notice Published 4/17/2020; Extending the Comment Period from 5/15/2020 to 6/19/2020.

Dated: May 11, 2020.
Cindy S. Barger,
Director, NEPA Compliance Division, Office of Federal Activities.

[FR Doc. 2020-10436 Filed 5-14-20; 8:45 am]

BILLING CODE 6560-50-P